DEPARTMENT OF AGRICULTURE

Submission for OMB Review; Comment Request

November 13, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by December 19, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Application for Payment of Amounts Due Persons Who Have Died, Disappeared or Declared Incompetent.

OMB Control Number: 0560-0026.

Summary of Collection: Representatives or survivors of persons who die, disappear, or are declared incompetent must be afforded a method of obtaining any payment intended for the person. 7 CFR part 707 provides that form, FSA-325, be used as the form of application for person desiring to claim such payments. It is necessary to collect information recorded on FSA-325 in order to determine whether representatives or survivors of a person are entitled to receive payments earned by a person who dies, disappears, or is declared incompetent before receiving the payments due.

Need and Use of the Information: FSA will collect information to determine if the survivors have rights to the existing payments or to the unpaid portions of the person's payments. Survivors must show proof of death, disappearance, or incompetency.

Description of Respondents: Individuals or households.

Number of Respondents: 2,000.

Frequency of Responses: Reporting: Other (when necessary).

Total Burden Hours: 3,000.

Title: Power of Attorney.

OMB Control Number: 0560-0190.

Summary of Collection: Individuals or authorized representatives of entities wanting to appoint another to act as their attorney-in-fact in connection with certain Farm Service Agency (FSA), Commodity Credit Corporation (CCC), and Risk Management Agency (RMA) programs, Federal Crop Insurance Corporation (FCIC), Natural Resources Conservation Service (NRCS) and related actions must complete a Power of Attorney form and Extension Sheet to accommodate additional signatures (FSA-211/211A). The FSA-211/211A serves as evidence that the grantor has appointed another to act on their behalf for certain FSA, CCC, FCIC, RMA, and NRCS programs and related actions giving the appointee legal authority to enter into binding agreements on the grantor's behalf.

Need and Use of the Information: FSA will collect information to verify an individual's authority to sign and act for another in the event of errors or fraud that requires legal remedies. The information collected on the FSA-211/211A is limited to the grantor's name, signature, and identification number, the grantee's name, address, and the applicable FSA, CCC, FCIC, NRCS, and RMA programs and actions.

Description of Respondents: Individuals or households.

Number of Respondents: 51,585.

Frequency of Responses: Reporting: Other (once).

Total Burden Hours: 64,256.

Ruth Brown,
Departmental Information Collection Clearance Officer.

[FR Doc. 2013-27571 Filed 11-18-13; 8:45 am]

BILLING CODE 3410-05-P